DEPARTMENT OF ENERGY

Federal Energy Regulatory Commission

Combined Notice of Filings # 1

May 13, 2008.

Take notice that the Commission received the following electric corporate filings:

Docket Numbers: EC08-84-000.

Applicants: Las Vegas Cogeneration LP; Valencia Power, LLC; Black Hills Generation, Inc.; Black Hills Colorado, LLC; Fountain Valley Power, LLC; Harbor Cogeneration Company, LLC; Las Vegas Cogeneration II, LLC; Southwest Generation Operating Company.

Description: Application for Transaction Approval Under Federal Power Act section 203 of Black Hills Generation, Inc., et al.

Filed Date: 05/05/2008.

Accession Number: 20080505-5082.

Comment Date: 5 p.m. Eastern Time on Monday, May 26, 2008.

Docket Numbers: EC08-86-000.

Applicants: Wabash Valley Power Association, Inc.; TPF Generation Holdings, LLC; Holland Energy, LLC.

Description: Application of Wabash Valley Power Association for approval of a transaction in which TPF Generation will sell 50% of the membership interests of Holland Energy to Wabash Valley and the other 50% to Hoosier Energy Rural Electric Coop, Inc. etc.

Filed Date: 05/09/2008.

Accession Number: 20080512-5024.

Comment Date: 5 p.m. Eastern Time on Friday, May 30, 2008.

Take notice that the Commission received the following electric rate filings:

Docket Numbers: ER95-1528-019.

Applicants: Wisconsin Public Service Corporation.

Description: Wisconsin Public Service Corporation submits a Notice of Change in Status.

Filed Date: 05/07/2008.

Accession Number: 20080509-0032.

Comment Date: 5 p.m. Eastern Time on Wednesday, May 28, 2008.

Docket Numbers: ER97-4345-022; ER98-511-010.

Applicants: Oklahoma Gas and Electric Company, OGE Energy Resources, Inc.

Description: Oklahoma Gas and Electric Company and OGE Energy Resources, Inc. submit revisions to their market-based rate tariff designated as First Revised Sheet 1-5 to FERC Electric Tariff, Fifth Revised Volume 3.

Filed Date: 05/05/2008.

Accession Number: 20080508-0216.

Comment Date: 5 p.m. Eastern Time on Tuesday, May 27, 2008.

Docket Numbers: ER01-1527-010; ER01-1529-010.

Applicants: Sierra Pacific Power Company.

Description: Nevada Power Co. et al. submits a notice of non-material change in status.

Filed Date: 05/08/2008.

Accession Number: 20080512-0283.

Comment Date: 5 p.m. Eastern Time on Thursday, May 29, 2008.

Docket Numbers: ER04-157-028; ER04-714-018; EL05-89-007.

Applicants: Bangor Hydro-Electric Company; Florida Power & Light Company; Maine Public Utilities Commission vs. Central Maine Power Company.

Description: New England Transmission Owners submits an errata to the 4/23/08 compliance filing.

Filed Date: 05/06/2008.

Accession Number: 20080513-0063.

Comment Date: 5 p.m. Eastern Time on Tuesday, May 27, 2008.

Docket Numbers: ER05-698-007.

Applicants: San Joaquin Cogen, LLC.

Description: San Joaquin Cogen, LLC submits a notice of non-material change in status in compliance with the reporting requirements of FERC's Order 652.

Filed Date: 05/09/2008.

Accession Number: 20080513-0065.

Comment Date: 5 p.m. Eastern Time on Friday, May 30, 2008.

Docket Numbers: ER07-45-002.

Applicants: Horizon Power & Light LLC.

Description: Horizon Power and Light, LLC submits an Updated Market Power Analysis.

Filed Date: 05/08/2008.

Accession Number: 20080512-0282.

Comment Date: 5 p.m. Eastern Time on Thursday, May 29, 2008.

Docket Numbers: ER07-881-004.

Applicants: Alliant Energy Corporate Services, Inc.

Description: Alliant Energy Corporate Services, Inc. submits a supplemental compliance filing.

Filed Date: 05/07/2008.

Accession Number: 20080509-0058.

Comment Date: 5 p.m. Eastern Time on Wednesday, May 28, 2008.

Docket Numbers: ER08-458-001.

Applicants: Florida Power Corporation.

Description: Florida Power Corporation submits its Cost Support for Refund (April 2008).

Filed Date: 05/06/2008.

Accession Number: 20080509-5024.

Comment Date: 5 p.m. Eastern Time on Tuesday, May 27, 2008.

Docket Numbers: ER08-611-001; ER08-613-001.

Applicants: Niagara Mohawk Power Corporation.

Description: Niagara Mohawk Power Corp.'s response to FERC's 4/8/08 letter requesting additional information.

Filed Date: 05/08/2008.

Accession Number: 20080509-0054.

Comment Date: 5 p.m. Eastern Time on Thursday, May 29, 2008.

Docket Numbers: ER08-670-001.

Applicants: Illinois Power Company.

Description: Illinois Power Co. and Ameren Illinois Transmission Company submit a supplement to their 3/14/08 filing.

Filed Date: 05/08/2008.

Accession Number: 20080509-0055.

Comment Date: 5 p.m. Eastern Time on Thursday, May 29, 2008.

Docket Numbers: ER08-679-001.

Applicants: Tallgrass Energy Partners.

Description: Tallgrass Energy Partners, LLC submits the Redlined Original Petition and Rate Schedule and Amended Original Petition and Rate Schedule FERC 1.

Filed Date: 05/06/2008.

Accession Number: 20080508-0197.

Comment Date: 5 p.m. Eastern Time on Tuesday, May 27, 2008.

Docket Numbers: ER08-740-000.

Applicants: Appalachian Power Company.

Description: Appalachian Power Co. withdraws the Cost-Based Formula Rate Agreement for full requirements Electric Service.

Filed Date: 05/09/2008.

Accession Number: 20080513-0103.

Comment Date: 5 p.m. Eastern Time on Friday, May 30, 2008.

Docket Numbers: ER08-770-001.

Applicants: Longview Power.

Description: Longview Power, LLC submits an amendment to its Petition for Acceptance of Initial Rate Schedule, Waivers and Blanket Authorization, and Request for Expedited Treatment, filed 3/31/08.

Filed Date: 05/07/2008.

Accession Number: 20080509-0031.

Comment Date: 5 p.m. Eastern Time on Wednesday, May 28, 2008.

Docket Numbers: ER08-798-001.

Applicants: American Electric Power Service Corporation.

Description: American Electric Power Service Corp., agent for Ohio Power Company et al., submits their first revision to the Interconnection Agreement with American Transmission Systems Incorporated.

Filed Date: 05/09/2008.

Accession Number: 20080513-0066.

Comment Date: 5 p.m. Eastern Time on Friday, May 30, 2008.

Docket Numbers: ER08-821-001; ER97-4587-008.

Applicants: Hazleton Generation LLC.

Description: Hazelton Generation, LLC submits an amendment to its4/11/08 submittal of notification of change in status and of succession.

Filed Date: 05/08/2008.

Accession Number: 20080512-0284.

Comment Date: 5 p.m. Eastern Time on Thursday, May 29, 2008.

Docket Numbers: ER08-836-001.

Applicants: Champion Energy Marketing LLC.

Description: Champion Energy Marketing, LLC submits an Amendment to the Application to address items noted with regards to the 4/16/08 original application.

Filed Date: 05/09/2008.

Accession Number: 20080513-0064.

Comment Date: 5 p.m. Eastern Time on Monday, May 19, 2008.

Docket Numbers: ER08-837-001.

Applicants: PJM Interconnection, LLC.

Description: PJM Interconnection, LLC submits an amendment to its4/16/08 filing.

Filed Date: 05/06/2008.

Accession Number: 20080508-0199.

Comment Date: 5 p.m. Eastern Time on Tuesday, May 27, 2008.

Docket Numbers: ER08-838-001.

Applicants: Affordable Power, LP.

Description: Affordable Power LP submits Substitute Original Sheet 3 et al. to Rate Schedule FERC 1, to comply with Order 697-A and a shortened comment period.

Filed Date: 05/08/2008.

Accession Number: 20080509-0056.

Comment Date: 5 p.m. Eastern Time on Monday, May 19, 2008.

Docket Numbers: ER08-892-000.

Applicants: Allegheny Energy Supply Company, LLC.

Description: Motion to Withdraw Filing, without prejudice, the notices of cancellation and notices of termination of service agreements filed on 4/30/08.

Filed Date: 05/07/2008.

Accession Number: 20080507-5076.

Comment Date: 5 p.m. Eastern Time on Wednesday, May 28, 2008.

Docket Numbers: ER08-922-000.

Applicants: Warren Power, LLC.

Description: Warren Power, LLC submits a notice of cancellation of FERC Electric Tariff, Original Volume 1 etc.

Filed Date: 05/06/2008.

Accession Number: 20080507-0221.

Comment Date: 5 p.m. Eastern Time on Tuesday, May 27, 2008.

Docket Numbers: ER08-925-000.

Applicants: Midwest Independent Transmission System.

Description: Midwest Independent Transmission System Operator, Inc. submits proposed revisions to its Post-Transition Treatment of Grandfathered Agreements.

Filed Date: 04/30/2008.

Accession Number: 20080505-0115.

Comment Date: 5 p.m. Eastern Time on Wednesday, May 21, 2008.

Docket Numbers: ER08-926-000.

Applicants: Northwestern Wisconsin Electric Company.

Description: Northwestern Wisconsin Electric Company submits FERC Rate Schedule 2, to be effective 5/1/08.

Filed Date: 05/07/2008.

Accession Number: 20080509-0030.

Comment Date: 5 p.m. Eastern Time on Wednesday, May 28, 2008.

Docket Numbers: ER08-927-000.

Applicants: Entergy Services, Inc.

Description: Entergy Operating Companies submits amendment to the Entergy System Agreement.

Filed Date: 05/08/2008.

Accession Number: 20080509-0052.

Comment Date: 5 p.m. Eastern Time on Thursday, May 29, 2008.

Docket Numbers: ER08-928-000.

Applicants: PJM Interconnection, LLC.

Description: PJM Interconnection, LLC submits revisions to its Open Access Transmission Tariff pursuant to section 205 of the Federal Power Act etc.

Filed Date: 05/08/2008.

Accession Number: 20080509-0053.

Comment Date: 5 p.m. Eastern Time on Thursday, May 29, 2008.

Docket Numbers: ER08-929-000.

Applicants: Northeast Utilities Service Company.

Description: Northeast Utilities Service Co. et al. submits revised tariff sheets to Schedule 21-NU to include sub-account numbers that were inadvertently omitted from its 1/17/07 compliance filing etc.

Filed Date: 05/06/2008.

Accession Number: 20080509-0070.

Comment Date: 5 p.m. Eastern Time on Tuesday, May 27, 2008.

Docket Numbers: ER08-930-000.

Applicants: Midwest Independent Transmission System.

Description: Midwest Independent Transmission System Operator, Inc. submits an executed Small Generator Interconnection Agreement among Flambeau Hydro, LLC etc.

Filed Date: 05/09/2008.

Accession Number: 20080512-0281.

Comment Date: 5 p.m. Eastern Time on Friday, May 30, 2008.

Docket Numbers: ER08-931-000.

Applicants: Walnut Creek Energy, LLC.

Description: Petition of Walnut Creek Energy, LLC For Order Accepting Market-Based Tariff for Filing and Granting Waivers and Blanket Approvals.

Filed Date: 05/09/2008.

Accession Number: 20080512-0280.

Comment Date: 5 p.m. Eastern Time on Friday, May 30, 2008.

Docket Numbers: ER08-932-000.

Applicants: SR Energy LLC.

Description: SR Energy, LLC submits a Notice of Cancellation of its Rate Schedule 1.

Filed Date: 05/09/2008.

Accession Number: 20080512-0279.

Comment Date: 5 p.m. Eastern Time on Friday, May 30, 2008.

Docket Numbers: ER08-933-000.

Applicants: Lempster Wind, LLC.

Description: Application of Lempster Wind, LLC for order accepting initial tariff, FERC Electric Tariff, Original Volume 1, waiving regulations & granting blanket approvals, including blanket approval under 18 CFR Part 34 etc.

Filed Date: 05/09/2008.

Accession Number: 20080512-0278.

Comment Date: 5 p.m. Eastern Time on Friday, May 30, 2008.

Docket Numbers: ER08-934-000.

Applicants: Locust Ridge Wind Farm II, LLC.

Description: Application of Locust Ridge Wind Farm II, LLC for order accepting initial tariff ( FERC Electric Tariff, Original Volume 1), waving regulations & granting blanket approvals, including blanket approval under 18 CFR Part 34 etc.

Filed Date: 05/09/2008.

Accession Number: 20080512-0277.

Comment Date: 5 p.m. Eastern Time on Friday, May 30, 2008.

Docket Numbers: ER08-935-000.

Applicants: Westar Energy, Inc.

Description: Westar Energy Inc submits FERC Electric Rate Schedule 307, a Supplemental Generation Agreement with the City of Burlingame dated as of 4/7/08.

Filed Date: 05/09/2008.

Accession Number: 20080512-0276.

Comment Date: 5 p.m. Eastern Time on Friday, May 30, 2008.

Docket Numbers: ER08-936-000.

Applicants: Westar Energy, Inc.

Description: Westar Energy, Inc submits FERC Electric Rate Schedule 308, a Supplemental Generation Agreement with City of Herington.

Filed Date: 05/09/2008.

Accession Number: 20080512-0275.

Comment Date: 5 p.m. Eastern Time on Friday, May 30, 2008.

Docket Numbers: ER08-937-000.

Applicants: Westar Energy, Inc.

Description: Westar Energy, Inc submits FERC Electric Rate Schedule 309, a Supplemental Generation Agreement with Osage City.

Filed Date: 05/09/2008.

Accession Number: 20080512-0273.

Comment Date: 5 p.m. Eastern Time on Friday, May 30, 2008.

Docket Numbers: ER08-938-000.

Applicants: Westar Energy, Inc.

Description: Westar Energy Inc submits FERC Electric Rate Schedule 310, a Supplemental Generation Agreement with City of Wamego dated as of 4/15/08.

Filed Date: 05/09/2008.

Accession Number: 20080512-0274.

Comment Date: 5 p.m. Eastern Time on Friday, May 30, 2008.

Docket Numbers: ER08-939-000.

Applicants: Golden Spread Electric Cooperative, Inc.

Description: Golden Spread Electric Cooperative, Inc submits First Revised Sheets 113-199, 300-399, and 404 to Golden Spread's First Revised Rate Schedule 23 through 33.

Filed Date: 05/09/2008.

Accession Number: 20080513-0070.

Comment Date: 5 p.m. Eastern Time on Friday, May 30, 2008.

Docket Numbers: ER08-940-000.

Applicants: Chehalis Power Generating, LLC.

Description: Chehalis Power Generating, LLC submits a Notice of Cancellation of its market-based rate tariff, FERC Electric Rate Schedule 1.

Filed Date: 05/09/2008.

Accession Number: 20080513-0067.

Comment Date: 5 p.m. Eastern Time on Friday, May 30, 2008.

Docket Numbers: ER08-941-000.

Applicants: Niagara Mohawk Power Corp.

Description: National Grid submits an Amendment and Restated Interconnection Agreement with Power City Partners, LP.

Filed Date: 05/09/2008.

Accession Number: 20080513-0068.

Comment Date: 5 p.m. Eastern Time on Friday, May 30, 2008.

Docket Numbers: ER08-942-000.

Applicants: American Electric Power Service Corporation.

Description: Ohio Power Co. et al. submits a thirteenth Revised Interconnection and Local Delivery Service Agreement.

Filed Date: 05/09/2008.

Accession Number: 20080513-0069.

Comment Date: 5 p.m. Eastern Time on Friday, May 30, 2008.

Take notice that the Commission received the following open access transmission tariff filings:

Docket Numbers: OA07-109-001.

Applicants: Arizona Public Service Company.

Description: Arizona Public Service Co submits Second Revised Sheet 122 et al. to FERC Electric Tariff, Fourteenth Revised Volume 2, in compliance with FERC's 4/8/08 Order.

Filed Date: 05/08/2008.

Accession Number: 20080509-0115.

Comment Date: 5 p.m. Eastern Time on Thursday, May 29, 2008.

Docket Numbers: OA07-52-002.

Applicants: Puget Sound Energy, Inc.

Description: Puget Sound Energy, Inc's Revisions to the Open Access Transmission Tariff to Comply with Order 890 OATT filing.

Filed Date: 05/12/2008.

Accession Number: 20080513-5076.

Comment Date: 5 p.m. Eastern Time on Monday, June 2, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-12429 Filed 6-3-08; 8:45 am]

BILLING CODE 6717-01-P